DEPARTMENT OF HEALTH AND HUMAN SERVICES

National Institutes of Health

Eunice Kennedy Shriver National Institute of Child Health & Human Development; Amended Notice of Meeting

Notice is hereby given of a change in the meeting of the National Institute of Child Health and Human Development Special Emphasis Panel, December 8, 2008, 8 a.m. to December 8, 2008, 5 p.m., Hyatt Regency Bethesda, One Bethesda Metro Center, 7400 Wisconsin Avenue, Bethesda, MD 20814 which was published in the Federal Register on November 13, 2008, 72 FR 67189.

The meeting location has been changed from the Hyatt Regency Bethesda, Bethesda, Maryland to the National Institutes of Health, 6100 Executive Boulevard, Room 5B01, Bethesda, Maryland. The meeting is closed to the public.

Dated: November 21, 2008.
Jennifer Spaeth,
Director, Office of Federal Advisory Committee Policy.

[FR Doc. E8-28395 Filed 11-28-08; 8:45 am]

BILLING CODE 4140-01-P